DEPARTMENT OF EDUCATION

National Assessment Governing Board; Meeting

AGENCY: Department of Education, National Assessment Governing Board.

ACTION: Notice of open meeting and partially closed meetings.

SUMMARY: The notice sets forth the schedule and proposed agenda of a forthcoming meeting of the National Assessment Governing Board. This notice also describes the functions of the Board. Notice of this meeting is required under Section 10(a)(2) of the Federal Advisory Committee Act. This document is intended to notify members of the general public of their opportunity to attend. Individuals who will need special accommodations in order to attend the meeting (i.e., interpreting services, assistive listening devices, materials in alternative format) should notify Munira Mwalimu at 202-357-6938 or at Munira.Mwalimu@ed.gov no later than July 21, 2008. We will attempt to meet requests after this date, but cannot guarantee availability of the requested accommodation. The meeting site is accessible to individuals with disabilities.

DATES: July 31-August 2, 2008.

Times:

July 31:

Committee Meetings:

Assessment Development Committee: Closed Session—8:30 a.m. to 1:45 p.m.

Ad Hoc Committee on NAEP Testing and Reporting: Open Session—2:15 p.m. to 4:15 p.m.

Executive Committee: Open Session—4:30 p.m. to 5 p.m.; Closed Session—5 p.m. to 6 p.m.

August 1:

Full Board: Open Session—8:30 a.m. to 9 a.m.; 12:30 p.m. to 4 p.m.

Committee Meetings:

Assessment Development Committee: Closed Session—9:15 a.m. to 12:15 p.m.

Committee on Standards, Design and Methodology: Open Session—9:15 a.m. to 10:30 a.m.; Closed Session—10:30 a.m. to 12:15 p.m.

Reporting and Dissemination Committee: Open Session—9:15 a.m. to 12:15 p.m.

August 2:

Nominations Committee: Closed Session—8:15 a.m. to 8:45 a.m.

Full Board: Open Session—9 a.m. to 12 p.m.

Location: Mandarin Oriental Washington DC, 1330 Maryland Avenue, SW., Washington DC 20024.

FOR FURTHER INFORMATION CONTACT: Munira Mwalimu, Operations Officer, National Assessment Governing Board, 800 North Capitol Street, NW., Suite 825, Washington, DC 20002-4233, Telephone: (202) 357-6938.

SUPPLEMENTARY INFORMATION: The National Assessment Governing Board is established under section 412 of the National Education Statistics Act of 1994, as amended.

The Board is established to formulate policy guidelines for the National Assessment of Educational Progress (NAEP). The Board's responsibilities include selecting subject areas to be assessed, developing assessment specifications and frameworks, developing appropriate student achievement levels for each grade and subject tested, developing standards and procedures for interstate and national comparisons, developing guidelines for reporting and disseminating results, and releasing initial NAEP results to the public.

On July 31 from 8:30 a.m. to 1:45 p.m. the Assessment Development Committee will meet in closed session to review secure test items for grades 4, 8, and 12 for the 2009 National Assessment of Educational Progress (NAEP) science assessments and for the 2010 NAEP pilot assessments in civics and geography at grades 4, 8, and 12. The meeting must be conducted in closed session as disclosure of proposed test items for the assessments would significantly impede implementation of the NAEP program, and is therefore protected by exemption 9(B) of section 552b(c) of Title 5 U.S.C.

On July 31, the Ad Hoc Committee on NAEP Testing and Reporting on Students with Disabilities and English Language Learners will meet in open session from 2:15 p.m. to 4:15 p.m. The Executive Committee will meet in open session from 4:30 p.m. to 5 p.m. on July 31 and in closed session from 5 p.m. to 6 p.m. During the closed session the Executive Committee will receive a briefing from the National Center for Education Statistics (NCES) on options for NAEP contracts covering the 2008-2012 assessment years, based on funding for Fiscal Year 2010. The discussion of contract options and costs will address the implications for congressionally mandated goals and adherence to Board policies on NAEP assessments. This part of the meeting must be conducted in closed session because public discussion of this information would disclose independent government cost estimates and contracting options, adversely impacting the confidentiality of the contracting process. Public disclosure of information discussed would significantly impede implementation of the NAEP contract awards, and is therefore protected by exemption 9(B) of section 552b(c) of Title 5 U.S.C.

The second item of discussion during the Executive Committee's closed session is a discussion of personnel matters and the nomination of the Board Vice Chair for the one-year term beginning October 1, 2008. These discussions pertain solely to internal personnel rules and practices of an agency and will disclose information of a personal nature where disclosure would constitute an unwarranted invasion of personal privacy. As such, the discussions are protected by exemptions 2 and 6 of section 552b(c) of Title 5 U.S.C.

On August 1, the full Board will meet in open session from 8:30 a.m. to 9:00 a.m. The Board will approve the agenda and the May 2008 Board minutes. Thereafter, the Governing Board will receive a report from the Executive Director of the Governing Board, and hear an update on the work of the National Center for Education Statistics (NCES).

On August 1, the Board's standing committees—the Assessment Development Committee; the Committee on Standards, Design and Methodology; and the Reporting and Dissemination Committee will meet from 9:15 a.m. to 12:15 p.m.

The Assessment Development Committee will meet in closed session from 9:15 a.m. to 12:15 a.m. on August 1 to review secure hands-on tasks and computer based tasks for the 2009 NAEP science assessment in grades 4, 8, and 12. The meeting must be conducted in closed session as disclosure of proposed test items for the science assessment would significantly impede implementation of the NAEP program, and is therefore protected by exemption 9(B) of section 552b(c) of Title 5 U.S.C.

On Friday, August 1, the Committee on Standards, Design and Methodology will meet in open session from 9:15 a.m. to 10:30 a.m. and in closed session from 10:30 a.m. to 12:15 p.m. During the closed session, the Committee will first receive results of a study conducted by NCES on test items for the NAEP 2009 reading and math assessments to demonstrate the effectiveness of new item development strategies. The second portion of the closed session briefing from NCES is to receive preliminary results of NAEP studies to maintain trend lines for the 2009 NAEP reading and mathematics assessments. The meeting must therefore be conducted in closed session in order to allow the Committee to receive and discuss confidential test items and results of NAEP studies that have not been publicly released. This would significantly impede implementation of the NAEP program, and is therefore protected by exemption 9(B) of section 552b(c) of Title 5 U.S.C.

The Reporting and Dissemination Committee will meet in open session on August 1 from 9:15 a.m. to 12:15 p.m.

On August 1, from 12:30 p.m. to 1:30 p.m. the full Board will meet in open session to hear a presentation from the Virginia Superintendent of Public Instruction and the Chair of the Governing Board's Policy Task Force that works with the Council of Chief State School Officers. From 1:30 p.m. to 2:30 p.m. the Board will receive a briefing from the Chair of the Board's 12th Grade Technical Panel on Preparedness Research. From 2:45 p.m. to 4 p.m., the Board will hear a presentation from the Executive Director of the Council of the Great City Schools on how Trial Urban Districts make use of NAEP data. The August 1 session of the Board meeting is scheduled to adjourn at 4 p.m.

On August 2, the Nominations Committee will meet in closed session from 8:15 a.m. to 8:45 a.m. to receive an update on the status of the 2008 Board nominations and to review and discuss confidential information regarding nominees for Board vacancies for terms beginning on October 1, 2009. These discussions pertain solely to internal personnel rules and practices of an agency and will disclose information of a personal nature where disclosure would constitute an unwarranted invasion of personal privacy. As such, the discussions are protected by exemptions 2 and 6 of section 552b(c) of Title 5 U.S.C.

The full Board will meet in open session on August 2 from 8:15 a.m. to 12 p.m. to hear a presentation on “Inside NAEP: Background Variables.” From 10:15 a.m. to 12 p.m. the Board will receive and take action on Committee reports and elect the Board Vice Chair. The August 2, 2008 session of the Board meeting is scheduled to adjourn at 12 p.m.

Detailed minutes of the meeting, including summaries of the activities of the closed sessions and related matters that are informative to the public and consistent with the policy of section 5 U.S.C. 552b(c) will be available to the public within 14 days of the meeting. Records are kept of all Board proceedings and are available for public inspection at the U.S. Department of Education, National Assessment Governing Board, Suite #825, 800 North Capitol Street, NW., Washington, DC, from 9 a.m. to 5 p.m. Eastern Standard Time, Monday through Friday.

Electronic Access to This Document: You may view this document, as well as all other documents of this Department published in the Federal Register, in text or Adobe Portable Document Format (PDF) on the Internet at the following site: http://www.ed.gov/news/fedregister/index.html. To use PDF you must have Adobe Acrobat Reader, which is available free at this site. If you have questions about using PDF, call the U.S. Government Printing Office (GPO), toll free at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: July 11, 2008.
Mary Crovo Clark,
Deputy Executive Director, National Assessment Governing Board, U.S. Department of Education.

[FR Doc. E8-16223 Filed 7-15-08; 8:45 am]

BILLING CODE 4000-01-P